NATIONAL AERONAUTICS AND SPACE ADMINISTRATION

[Notice (12-007)]

NASA Advisory Council; Science Committee; Planetary Science Subcommittee; Meeting

AGENCY: National Aeronautics and Space Administration.

ACTION: Notice of meeting.

SUMMARY: In accordance with the Federal Advisory Committee Act, Public Law 92-463, as amended, the National Aeronautics and Space Administration (NASA) announces a meeting of the Planetary Science Subcommittee of the NASA Advisory Council (NAC). This Subcommittee reports to the Science Committee of the NAC. The meeting will be held via Teleconference and WebEx for the purpose of soliciting, from the scientific community and other persons, scientific and technical information relevant to program planning.

DATE: Thursday, February 23, 2012, 2 p.m. to 4 p.m., local time.

ADDRESSES: This meeting will take place telephonically and by WebEx. Any interested person may call the USA toll free conference call number (888) 603-9221, pass code PSS, to participate in this meeting by telephone. The WebEx link is https://nasa.webex.com/, meeting number 995 854 546, and password PSS@Feb23.

FOR FURTHER INFORMATION CONTACT: Ms. Marian Norris, Science Mission Directorate, NASA Headquarters, Washington, DC 20546, (202) 358-4452, fax (202) 358-4118, or mnorris@nasa.gov.

SUPPLEMENTARY INFORMATION: The agenda for the meeting includes the following topics:

—Status of Budget and Programmatic Impacts on the Planetary Science Division.

—Status of the Joint NASA-European Space Agency Mars Program.

It is imperative that the meeting be held on this date to accommodate the scheduling priorities of the key participants.

Patricia D. Rausch,
Advisory Committee Management Officer, National Aeronautics and Space Administration.

[FR Doc. 2012-2012 Filed 1-30-12; 8:45 am]

BILLING CODE 7510-13-P